DEPARTMENT OF EDUCATION

[CFDA No.: 84.235K]

Special Demonstration Programs; Notice Inviting Applications for New Awards for Fiscal Year (FY) 2000

Purpose of Program: To provide financial assistance to support projects or programs that expand and improve the provision of rehabilitation and other services for individuals with disabilities, including technical assistance that meets the needs of underserved populations.

Eligible Applicants: State vocational rehabilitation agencies; community rehabilitation programs; Indian tribes or tribal organizations; and public or nonprofit agencies or organizations, including institutions of higher education.

Deadline for Transmittal of Applications: August 1, 2000.

Deadline for Intergovernmental Review: September 30, 2000.

Applications Available: June 2, 2000.

Available Funds: $500,000.

Estimated Range of Award: $400,000 to $500,000.

Estimated Number of Awards: 1.

Note: The Department is not bound by any estimates in this notice.

Project Period: Up to 60 months. The Assistant Secretary believes that a period of at least 36 months is necessary to accomplish the project objectives. The Assistant Secretary will assess, during the third year of the project period, whether there is a continuing need for the project and whether to provide funding beyond 36 months.

Applicable Regulations: (a) The Education Department General Administrative Regulations (EDGAR) in 34 CFR parts 74, 75, 77, 79, 80, 81, 82, 85, 86, 97, 98, and 99.

Priority

Background

According to section 21 of the Rehabilitation Act of 1973, as amended (Act), Native Americans have a rate of work-related disability that is about one and one-half times that of the general population. Patterns of inequitable treatment of minorities, including Native Americans, have been documented at all stages of the vocational rehabilitation process.

Priority

Under 34 CFR 75.105(c)(3) and section 303(b)(4)(C) and (5)(B)(vi) of the Act, the Assistant Secretary gives an absolute preference to applications that meet the following priority. The Assistant Secretary funds only an application that meets this absolute priority.

A project must create a National Technical Assistance Center that would provide technical assistance to tribes and tribal agencies, State vocational rehabilitation agencies, and other service agencies to increase employment opportunities and vocational outcomes for Native Americans with disabilities.

Allowable Activities

Activities that may be supported under this competition include, but are not limited to—

• Assisting tribes and other agencies to conduct market analyses and providing information on self-employment and business ownership for Native Americans with disabilities;

• Providing culturally relevant training to tribes on the provisions of the Americans with Disabilities Act;

• Identifying solutions related to the lack of infrastructure when developing employment opportunities for Native Americans with disabilities;

• Assisting tribes and other agencies to better understand other issues affecting Native Americans with disabilities, including, but not limited to—housing, transportation, current legislative initiatives such as the Workforce Investment Act and the Workforce Investment Improvement Act, the Individuals with Disabilities Education Act, Disability and Business Technical Assistance Centers, and relevant higher education initiatives, coordination of services available through the Bureau of Indian Affairs and the Indian Health Service, long-term care, independent living, and assistive technology.

Selection Criteria: In evaluating an application for a new grant under this competition, the Secretary uses selection criteria chosen from the general selection criteria in 34 CFR 75.210 of EDGAR. The selection criteria to be used for this competition will be provided in the application package for this competition.

For Applications Contact: Education Publications Center (ED Pubs), P.O. Box 1398, Jessup, MD 20794-1398. Telephone (toll free): 1-877-433-7827. FAX: (301) 470-1244. If you use a telecommunications device for the deaf (TDD), you may call (toll free): 1-877-576-7734. You may also contact ED Pubs via its Web site (http://www.ed.gov/pubs/edpubs.html) or its E-mail address (ed pubs@inet.ed.gov). If you request an application from ED Pubs, be sure to identify this competition as follows: CFDA number 84.235K.

Individuals with disabilities may obtain a copy of the application package in an alternate format by contacting the Grants and Contracts Services Team, U.S. Department of Education, 400 Maryland Avenue, SW., room 3317, Switzer Building, Washington, DC 20202-2550. Telephone: (202) 205-8351. If you use a telecommunications device for the deaf (TDD), you may call the Federal Information Relay Services (FIRS) at 1-800-877-8339. However, the Department is not able to reproduce in an alternate format the standard forms included in the application package.

For Further Information Contact: Thomas E. Finch, U.S. Department of Education, 400 Maryland Avenue, SW., room 3314, Switzer Building, Washington, DC. 20202-2650. Telephone: (202) 205-8292. If you use a telecommunications device for the deaf (TDD), you may call the Federal Information Relay Service (FIRS) at 1-800-877-8339.

Individuals with disabilities may obtain this document in an alternate format (e.g., Braille, large print, audiotape, or computer diskette) on request to the contact persons listed in the preceding paragraph.

Electronic Access to This Document

You may view this document, as well as all other Department of Education documents published in the Federal Register, in text or Adobe Portable Document Format (PDF) on the Internet at either of the following sites:

http://ocfo.ed.gov/fedreg.html

http://www.ed.gov/news.html

To use the PDF you must have the Adobe Acrobat Reader, which is available free at either of the previous sites. If you have questions about using the PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 29 U.S.C. 773(b).

Dated: May 26, 2000.
Judith E. Heumann,
Assistant Secretary for Special Education and Rehabilitative Services.

[FR Doc. 00-13682 Filed 6-1-00; 8:45 am]

BILLING CODE 4000-01-U